FEDERAL COMMUNICATIONS COMMISSION

Open Commission Meeting, Thursday, June 6, 2019

May 30, 2019.

The Federal Communications Commission will hold an Open Meeting on the subjects listed below on Thursday, June 6, 2019 which is scheduled to commence at 10:30 a.m. in Room TW-C305, at 445 12th Street SW, Washington, DC.

Item No. | Bureau | Subject
1 | CONSUMER & GOVERNMENTAL AFFAIRS | TITLE: Advanced Methods to Target and Eliminate Unlawful Robocalls (CG Docket No. 17-59); Call Authentication Trust Anchor (WC Docket 17-97).
|  | SUMMARY: The Commission will consider a Declaratory Ruling and Third Further Notice of Proposed Rulemaking that would clarify that voice service providers may block illegal and unwanted calls as the default before they reach consumers' phones, and propose a safe harbor for providers that block calls that fail call authentication while ensuring that emergency and other critical calls reach consumers.
2 | MEDIA | TITLE: Leased Commercial Access (MB Docket No. 07-42); Modernization of Media Regulation Initiative (MB Docket No. 17-105).
|  | SUMMARY: The Commission will consider a Report and Order and Second Further Notice of Proposed Rulemaking that would vacate its 2008 Leased Access Order, modernize the existing leased access rules to reflect changes in the video programming market, and propose to simplify the leased access rate formula.
3 | WIRELESS TELE-COMMUNICATIONS | TITLE: Amendment of the Commission's Rules to Promote Aviation Safety (WT Docket No. 19-140); WiMAX Forum Petition to Adopt Service Rules for the Aeronautical Mobile Airport Communications System (AeroMACS) (RM-11793); Petition of Sierra Nevada Corporation for Amendment of the Commission's Rules to Allow for Enhanced Flight Vision System Radar under Part 87 (RM-11799); Petition of Aviation Spectrum Resources, Inc. for Amendment of Sections 87.173(b) and 87.263(a) of the FCC's Rules to Allow Use of the Lower 136 MHz Band by Aeronautical Enroute Stations (RM-11818); Petition of Airports Council International-North America Regarding Aeronautical Utility Mobile Stations (RM-11832).
|  | SUMMARY: The Commission will consider a Notice of Proposed Rulemaking that would propose to modernize the Commission's rules to improve aviation safety, support the deployment of more advanced avionics technology, and increase the efficient use of limited spectrum resources.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison Officer.

[FR Doc. 2019-11992 Filed 6-6-19; 8:45 am]

BILLING CODE 6712-01-P